DEPARTMENT OF VETERANS AFFAIRS

[OMB Control No. 2900-0850]

Agency Information Collection Activity: Requirements for Recognition as a VA Accredited Organization

AGENCY: Office of General Counsel, Department of Veterans Affairs.

ACTION: Notice.

SUMMARY: The Office of General Counsel (OGC), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Written comments and recommendations on the proposed collection of information should be received on or before June 12, 2020.

ADDRESSES: Submit written comments on the collection of information through Federal Docket Management System (FDMS) at www.Regulations.gov or to Jonathan Taylor, Office of the General Counsel (022D), Department of Veterans Affairs, 810 Vermont Avenue NW, Washington, DC 20420 or email to jonathan.taylor2@va.gov. Please refer to “OMB Control No. 2900-0850” in any correspondence. During the comment period, comments may be viewed online through FDMS.

FOR FURTHER INFORMATION CONTACT: Danny S. Green, VA PRA Clearance Officer at (202) 421-1354.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, OGC invites comments on: (1) Whether the proposed collection of information is necessary for the proper performance of OGC's functions, including whether the information will have practical utility; (2) the accuracy of OGC's estimate of the burden of the proposed collection of information; (3) ways to enhance the quality, utility, and clarity of the information to be collected; and (4) ways to minimize the burden of the collection of information on respondents, including through the use of automated collection techniques or the use of other forms of information technology.

Authority: 38 U.S.C. 5902; 38 CFR 14.628.

Title: Requirements for Recognition as a VA Accredited Organization.

OMB Control Number: 2900-0850.

Type of Review: Extension of a currently approved collection.

Abstract: In order for an organization to provide representation to claimants before VA regarding claims for VA benefits, the organization must be recognized by VA for that purpose. Section 5902(a) of title 38, United States Code, authorizes VA to recognize organizations for the limited purpose of ensuring competent representation of veterans in claims for benefits administered by VA. VA implemented this authority in 38 CFR 14.628. An organization must apply for VA recognition, supplying information as specified in section 14.628 to demonstrate that it satisfies the legal requirements for recognition. (Organizations may provide services to veterans without VA recognition if the services do not include the preparation, presentation, and prosecution of claims for VA benefits.) The information submitted by the organizations in conjunction with a request for recognition is used by VA in reviewing accreditation applications to determine whether organizations meet the requirements for VA recognition under section 14.628. VA relies on this information to ensure that it is granting recognition only to organizations that can provide long-term, competent representation to VA claimants.

Affected Public: Individuals, not-for-profit institutions, and state, local, or tribal governments.

Estimated Annual Burden: 50 hours.

Estimated Average Burden per Respondent: 5 hours.

Frequency of Response: One time.

Estimated Number of Respondents: 10.

By direction of the Secretary.
Danny S. Green,
VA PRA Clearance Officer, Office of Quality, Performance and Risk, Department of Veterans Affairs.

[FR Doc. 2020-07642 Filed 4-10-20; 8:45 am]

BILLING CODE 8320-01-P